ENVIRONMENTAL PROTECTION AGENCY

[FRL-7785-5]

Science Advisory Board Staff Office

Request for Nominations for the Science Advisory Board Second Generation Model Advisory Panel

AGENCY: Environmental Protection Agency (EPA).

ACTION: Notice.

SUMMARY: The EPA Science Advisory Board (SAB) Staff Office announces the formation of a new advisory panel known as the SAB Second Generation Model (SGM) Advisory Panel, and is soliciting nominations for members of the Panel.

DATES: Nominations should be submitted by July 30, 2004, per the instructions below.

ADDRESSES: Any member of the public wishing further information regarding this Request for Nominations may contact Dr. Holly Stallworth, Designated Federal Officer (DFO), via telephone/voice mail at (202) 343-9867; via e-mail at stallworth.holly@epa.gov or at the U.S. EPA Science Advisory Board (1400F), 1200 Pennsylvania Ave., NW., Washington, DC 20460. General information about the SAB can be found on the SAB Web site at: http://www.epa.gov/sab.

FOR FURTHER INFORMATION CONTACT: Contact Dr. Holly Stallworth at (202) 343-9867.

SUPPLEMENTARY INFORMATION: Background: EPA's Office of Atmospheric Programs (OAP) requested that the SAB provide advice on a computable general equilibrium (CGE) model known as the Second Generation Model (SGM). This regionally disaggregated model of the global economy is a computer program that uses input-output relationships and simultaneous equations to simulate activities in multiple markets (e.g., labor markets, energy fuels markets, and final goods markets) in the economy. These models consider major economic actors (households, government, and firms) as well as other important aspects of the economy, including demographics, resources, energy supply, and capital flows. The SGM is a 14 region, 22 sector CGE model that can be used to project greenhouse gas emissions and determine the costs of various options for reducing greenhouse gas emissions (e.g. carbon fees or charges, allowance trading, accelerated energy conservation).

The SAB is a chartered Federal Advisory Committee, established by 42 U.S.C. 4365, to provide independent scientific and technical advice, consultation, and recommendations to the EPA Administrator on the technical bases for EPA policies and actions. The SAB SGM Advisory Panel will provide advice through the chartered SAB and will comply with the openness provisions of the Federal Advisory Committee Act (FACA) and all appropriate SAB procedural policies. The work of this panel includes reviewing background material, participating in a few public teleconferences, and attending one or more public face-to-face meetings, until the advisory is complete.

Tentative Charge to the SAB Panel: EPA's OAP requested that the SAB provide comments on the appropriateness and usefulness of the SGM model for estimating the economic effects of climate policies. Proposed specific charge questions to the SAB SGM Advisory Panel are as follows.

1. Are the model's structure and fundamental assumptions consistent with economic theory?

2. Are the parameter values employed in the model (e.g., elasticities of substitution and of demand, price and income) within the range of values in the literature?

3. Are the model's parameterizations of physical phenomena logical, and are its projections of future energy use and efficiency reasonable, given fundamental physical constraints and rates of technological change?

4. Are the model's outputs and projections for short-, medium-, and long-term analyses reasonable and within the range of expert opinion?

5. In what areas is the model most in need of further development and refinement?

EPA Technical Contact: An extensive and detailed documentation of SGM's structure, parameters and assumptions, as well as a shorter overview paper, will be available on EPA's OAP's Web site. Mr. Michael Leifman of OAP is the EPA technical contact and may be contacted at (202) 343-9380 or at leifman.michael@epa.gov.

Request for Nominations: The SAB Staff Office is requesting nominations of recognized experts with one or more of the following expertise to serve on the SAB SGM Advisory Panel: (a) Energy economics; (b) environmental economics; (c) economic modeling of climate options; (d) computable general equilibrium modeling; (e) technological change and diffusion; and (f) climate science.

Process and Deadline for Submitting Nominations: Any interested person or organization may nominate individuals qualified in the areas of expertise described above to serve on the SAB SGM Advisory Panel. Nominations should be submitted in electronic format through the Form for Nominating Individuals to Panels of the EPA Science Advisory Board which can be accessed through a link on the blue navigational bar on the SAB Web site at: http://www.epa.gov/sab. To be considered, all nominations must include the information requested on that form.

Anyone who is unable to submit nominations using this form, and any questions concerning any aspects of the nomination process may contact the DFO, as indicated above in this notice. Nominations should be submitted in time to arrive no later than July 30, 2004. Any questions concerning either this process or any other aspects of this notice should be directed to the DFO. The process for forming a SAB panel is described in the Overview of the Panel Formation Process at the Environmental Protection Agency, Science Advisory Board (EPA-SAB-EC-COM-02-010), on the SAB Web site at: http://www.epa.gov/sab/pdf/ecm02010.pdf.

The SAB Staff Office will acknowledge receipt of the nomination and inform nominators of the panel selected. From the nominees identified by respondents to this Federal Register notice (termed the “Widecast”), the SAB Staff Office will develop a smaller subset (known as the “Short List”) for more detailed consideration. The Short List will be posted on the SAB Web Site at: http://www.epa.gov/sab, and will include, for each candidate, the nominee's name and biosketch. Public comments on the Short List will be accepted for 21 calendar days. During this comment period, the public will be requested to provide information, analysis or other documentation on nominees that the SAB Staff Office should consider in evaluating candidates for the Panel.

For the SAB, a balanced panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: June 29, 2004.
Vanessa T. Vu,
Director, EPA Science Advisory Board Staff Office.

[FR Doc. 04-15615 Filed 7-8-04; 8:45 am]

BILLING CODE 6560-50-P